DEPARTMENT OF EDUCATION

Rehabilitation Training: Rehabilitation Long-Term Training

AGENCY: Office of Special Education and Rehabilitative Services, U.S. Department of Education.

ACTION: Notice extending application deadline dates for Rehabilitation Training: Rehabilitation Long-Term Training programs.

Catalog of Federal Domestic Assistance (CFDA) Numbers: 84.129B, E, F, H, L, P, Q, R, and W.

SUMMARY: The Assistant Secretary extends the deadline dates for the submission of applications for several Rehabilitation Training: Rehabilitation Long-Term Training programs. In all of the affected competitions, the Assistant Secretary is making new awards for fiscal year (FY) 2008. The Assistant Secretary takes this action to allow more time for the preparation and submission of applications by potential applicants affected by the wildfires in southern California. The extension of the application deadline date for these competitions is intended to help potential applicants compete fairly with other applicants under these programs.

Note: Information related to each of these competitions can be found under the chart entitled “List of Programs Affected” in the SUPPLEMENTARY INFORMATION section of this notice.

Eligibility: The extension of deadline dates in this notice applies to States and public or nonprofit agencies and organizations, including Indian tribes and institutions of higher education, that are located in a Federally-declared disaster area, as determined by the Federal Emergency Management Agency (FEMA) (see http://www.fema.gov/news/disasters.fema), and adversely affected by the wildfires in California. You must provide a certification in your application that you meet one of these criteria for submitting an application on the Extended Deadline and be prepared to provide appropriate supporting documentation, if requested. The submission of the electronic application serves as your attestation that you meet the criteria for submitting an application on the Extended Deadline.

DATES: The new deadline date for transmitting applications under each competition is listed with that competition in the chart entitled “List of Programs Affected” in the SUPPLEMENTARY INFORMATION section of this notice. As these programs are subject to Executive Order 12372, the relevant deadline for intergovernmental review is also indicated in this chart.

ADDRESSES: The address and telephone number for obtaining applications for, or information about, an individual program or competition are in the application notice for that program or competition. We have listed the date and Federal Register citation of the application notice for each program in the chart entitled “List of Programs Affected.”

If you use a telecommunications device for the deaf (TDD), you may call the TDD number, if any, listed in the individual application notice. If we have not listed a TDD number, you may call the Federal Relay Service (FRS) at 1-800-877-8339.

If you want to transmit a recommendation or comment under Executive Order 12372, you can find the most recent list and addresses of individual Single Points of Contacts (SPOCs) on the Web site of the Office of Management and Budget at the following address: http://www.whitehouse.gov/omb/grants/spoc.html.

You can also find the list of SPOCs in the appendix to the Forecast of Funding Opportunities under the Department of Education Discretionary Grant Programs for Fiscal Year (FY) 2008. This is available on the Internet at: http://www.ed.gov/funding.html.

SUPPLEMENTARY INFORMATION: The following is specific information about each of the programs or competitions covered by this notice:

List of Programs Affected Office of Special Education and Rehabilitative Services Rehabilitation Services Administration
CFDA No. and name | Publication date and Federal Register citation | Original deadline for transmittal of applications | Extended deadline for transmittal of applications | Original deadline for inter-governmental review | Extended deadline for inter-governmental review
84.129B: Rehabilitation Training: Rehabilitation Long-Term Training—Vocational Rehabilitation Counseling | 9/13/07 (72 FR 52358) | 10/29/07 | 11/19/07 | 12/27/07 | 1/18/08
84.129E, F, H, L, P, Q and R: Rehabilitation Training: Rehabilitation Long-Term Training | 9/13/07 (72 FR 52362) | 10/29/07 | 11/19/07 | 12/27/07 | 1/18/08
84.129W: Rehabilitation Training: Rehabilitation Long-Term Training—Comprehensive System of Personnel Development | 9/13/07 (72 FR 52366) | 10/29/07 | 11/19/07 | 12/27/07 | 1/18/08

If you are an individual with a disability, you may obtain a copy of this notice in an alternative format (e.g., Braille, large print, audiotape, or computer diskette) on request to the contact person listed in the individual application notices.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: October 25, 2007.
William W. Knudsen,
Deputy Assistant Secretary for Special Education and Rehabilitative Services.

[FR Doc. E7-21347 Filed 10-29-07; 8:45 am]

BILLING CODE 4000-01-P